DEPARTMENT OF COMMERCE

International Trade Administration

[A-570-836]

Glycine From the People's Republic of China: Final Results of Antidumping Duty Administrative Review; 2019-2020

AGENCY: Enforcement and Compliance, International Trade Administration, Department of Commerce.

SUMMARY: The Department of Commerce (Commerce) continues to find that certain companies covered by this administrative review made no shipments of subject merchandise during the period of review (POR) March 1, 2019, through February 29, 2020. Commerce also continues to find that Avid Organics Private Limited (Avid) is part of the China-wide entity.

DATES: Applicable January 28, 2021.

FOR FURTHER INFORMATION CONTACT: Yang Jin Chun, AD/CVD Operations, Office VI, Enforcement and Compliance, International Trade Administration, U.S. Department of Commerce, 1401 Constitution Avenue NW, Washington, DC 20230; telephone: (202) 482-5760.

SUPPLEMENTARY INFORMATION:

Background

On October 22, 2020, Commerce published the preliminary results of the administrative review of the antidumping duty order on glycine from the People's Republic of China (China) covering the POR.¹ We received comments from interested parties with respect the Preliminary Results. The deadline for these final results of review is February 19, 2021. We conducted this administrative review in accordance with section 751 of the Tariff Act of 1930, as amended (the Act).

¹ See Glycine from the People's Republic of China: Preliminary Results of Antidumping Duty Administrative Review and Preliminary Determination of No Shipments; 2019-2020, 85 FR 67332 (October 22, 2020) (Preliminary Results).

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).² Although the HTSUS subheading is provided for convenience and customs purposes, the written description of the merchandise under the order is dispositive.

² In separate scope rulings, Commerce determined that: (a) D(-) Phenylglycine Ethyl Dane Salt is outside the scope of the order and (b) Chinese-glycine exported from India remains the same class or kind of merchandise as the China-origin glycine imported into India. See Notice of Scope Rulings and Anticircumvention Inquiries, 62 FR 62288 (November 21, 1997) and Glycine from the People's Republic of China: Final Partial Affirmative Determination of Circumvention of the Antidumping Duty Order, 77 FR 73426 (December 10, 2012), respectively.

Analysis of Comments Received

The sole issue raised with respect to the Preliminary Results by parties to this administrative review is addressed in the Issues and Decision Memorandum.³ The issue raised by parties and the other areas covered in the Issues and Decision Memroandum are identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html. The signed and electronic versions of the Issues and Decision Memorandum are identical in content.

³ See Memorandum, “Glycine from the People's Republic of China: Issues and Decision Memorandum for the Final Results of Administrative Review; 2019-2020,” dated concurrently with, and hereby adopted by, this notice (Issues and Decision Memorandum).

Changes From the Preliminary Results

We made no revisions to the Preliminary Results.

Final Determination of No Shipments

We preliminarily determined that Studio Disrupt, Mulji Mehta Enterprises, Kumar Industries, and Baoding Mantong Fine Chemistry Co., Ltd., did not have shipments of subject merchandise during the POR.⁴ After the Preliminary Results, we received no comments or additional information with respect to these four companies. Therefore, for the final results, we continue to find that these four companies did not have shipments of subject merchandise during the POR. We will issue appropriate instructions to U.S. Customs and Border Protection (CBP) based on these final results.

⁴ See Preliminary Results, 85 FR at 67322-23.

China-Wide Entity

In the Preliminary Results, we found that Avid is ineligible for a separate rate and treated it as a part of the China-wide entity. For the final results, Commerce continues to find Avid ineligible for a separate rate and to treat it as a part of the China-wide entity.

Assessment Rates

Pursuant to section 751(a)(2)(A) of the Act and 19 CFR 351.212(b), Commerce will determine, and CBP shall assess, antidumping duties on all appropriate entries of subject merchandise in accordance with the final results of this review.⁵ Consistent with its recent notice,⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). We will instruct CBP to liquidate entries of subject merchandise exported by the China-wide entity at the China-wide rate of 155.89 percent.⁷ Consistent with Commerce's assessment practice in non-market economy cases, for the companies which Commerce determined had no shipments of the subject merchandise, any suspended entries made under those exporters' case numbers (i.e., at the exporters' rates) will be liquidated at the China-wide rate.⁸

⁵ See 19 CFR 351.212(b)(1).

⁶ See Notice of Discontinuation of Policy to Issue Liquidation Instructions After 15 Days in Applicable Antidumping and Countervailing Duty Administrative Proceedings, 86 FR 3995 (January 15, 2021).

⁷ See Glycine from the People's Republic of China: Notice of Court Decision Not in Harmony With Final Results of the Antidumping Duty Administrative Review and Notice of Amended Final Results; 2015-2016, 83 FR 49363 (October 1, 2018) for the calculation of the China-wide rate.

⁸ See Non-Market Economy Antidumping Proceedings: Assessment of Antidumping Duties, 76 FR 65694 (October 24, 2011).

Cash Deposit Requirements

The following cash deposit requirements will be effective upon publication of the final results of this review for shipments of subject merchandise from China entered, or withdrawn from warehouse, for consumption on or after the publication date, as provided by sections 751(a)(2)(C) of the Act: (1) For previously investigated or reviewed Chinese and non-Chinese exporters that received a separate rate in a prior segment of this proceeding, the cash deposit rate will continue to be the existing exporter-specific rate; (2) for all Chinese exporters of subject merchandise that have not been found to be entitled to a separate rate, the cash deposit rate will be the rate for the China-wide entity, i.e., 155.89 percent; and (3) for all non-Chinese exporters of subject merchandise which have not received their own rate, the cash deposit rate will be the rate applicable to the Chinese exporter that supplied that non-Chinese exporter. These cash deposit requirements, when imposed, shall remain in effect until further notice.

Reimbursement of Duties

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

The final results of this administrative review are issued and published in accordance with sections 751(a)(1) and 777(i) of the Act.

Dated: January 22, 2021.
Christian Marsh,
Acting Assistant Secretary for Enforcement and Compliance.

Appendix

List of Topics Discussed in the Final Issues and Decision Memorandum

I. Summary

II. Background

III. Scope of the Order

IV. Discussion of the Issue

Comment: Rescission Request

V. Recommendation

[FR Doc. 2021-01906 Filed 1-27-21; 8:45 am]

BILLING CODE 3510-DS-P